DEPARTMENT OF EDUCATION

[CFDA: 84.133B-1]

Proposed Priorities: Interventions To Promote Community Living Among Individuals With Disabilities

AGENCY: Office of Special Education and Rehabilitative Services, Department of Education.

ACTION: Notice.

SUMMARY: The Assistant Secretary for Special Education and Rehabilitative Services proposes a funding priority for the Disability and Rehabilitation Research Projects and Centers Program administered by NIDRR. Specifically, this notice proposes a priority for an RRTC on Interventions to Promote Community Living Among Individuals with Disabilities. The Assistant Secretary may use this priority for competitions in fiscal year (FY) 2011 and later years. We take this action to focus research attention on areas of national need. We intend this priority to improve participation and community living outcomes for individuals with disabilities.

DATES: We must receive your comments on or before April 28, 2011.

ADDRESSES: Address all comments about this notice to Marlene Spencer, U.S. Department of Education, 400 Maryland Avenue, SW., Room 5133, Potomac Center Plaza (PCP), Washington, DC 20202-2700.

If you prefer to send your comments by e-mail, use the following address: marlene.spencer@ed.gov. You must include the term “Proposed Priority—RRTC on Promoting Community Living” in the subject line of your electronic message.

FOR FURTHER INFORMATION CONTACT: Marlene Spencer. Telephone: (202) 245-7532 or by e-mail: marlene.spencer@ed.gov.

If you use a telecommunications device for the deaf (TDD), call the Federal Relay Service (FRS), toll free, at 1-800-877-8339.

SUPPLEMENTARY INFORMATION: This notice of proposed priority is in concert with NIDRR's currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for RRTC competitions in FY 2011 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Order 12866 and its overall requirement of reducing regulatory burden that might result from this notice. Please let us know of any further ways we could reduce potential costs or increase potential benefits while preserving the effective and efficient administration of the program.

During and after the comment period, you may inspect all public comments about this notice in Room 5133, 550 12th Street, SW., PCP, Washington, DC, between the hours of 8:30 a.m. and 4:00 p.m., Washington, DC, time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act) (29 U.S.C. 701 et seq.).

RRTC Program: The purpose of the RRTC program is to improve the effectiveness of services authorized under the Rehabilitation Act, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

Proposed Priority

This notice contains one proposed priority.

Rehabilitation Research and Training Center (RRTC) on Interventions To Promote Community Living Among Individuals With Disabilities

Background: Laws and policies protecting the civil rights of individuals with disabilities have helped to promote the inclusion of and participation by individuals with disabilities in the home, community, and workplace. Nonetheless, an individual's functional abilities, demographic characteristics, socioeconomic status, access to personal and other supports, and a variety of environmental barriers appear to interact and result in low levels of community participation among individuals with disabilities (LaPlante and Kaye, 2010; Parish et al., 2009; U.S. Department of Health and Human Services, 2010a; White et al., 2010).

Barriers to independent living and community participation among individuals with disabilities include fragmented service delivery systems, lack of affordable, accessible housing and reliable, accessible transportation, and difficulty obtaining well-qualified personal attendants (National Council on Disability, 2006; Kessler Foundation & National Organization on Disability, 2010). Geographic location also affects the level of community participation experienced by individuals with disabilities. For example, individuals with disabilities living in rural America generally lack accessible public transportation and experience shortages of public health and other providers, thereby limiting their access to community-based programs and services (National Council on Disability, 2007). For individuals with disabilities living in institutional settings, these housing, transportation, health care, and long-term care barriers also limit opportunities to move out of institutions and into the community.

In 2009, the President launched “The Year of Community Living.” This initiative recognized that for many individuals with disabilities there are limited choices, options, and opportunities to receive long-term services and supports in the community. Past research supported by NIDRR and others has advanced our understanding of factors that impede community living for individuals with disabilities (D'Souza et al., 2009; White et al., 2010), yielded valid and reliable measures of participation in important life activities (Magasi & Post, 2010), identified the effects of the built and social environments on community participation (LaPlante & Kaye, 2010; Mojtahedi et al., 2008), and developed potential environmental accommodations for individuals with disabilities (Jaeger & Xie, 2009). Building on the knowledge gained through this research, new knowledge is needed about how barriers to and experience of community participation differ across sociodemographic and geographic groups of individuals within the diverse population of individuals with disabilities. This knowledge can help policymakers and service providers target interventions more effectively.

Rigorous evaluation of interventions is also needed to identify strategies for eliminating barriers to community living. In particular, more testing of policies and programs is needed to create an evidence base for strategies that facilitate (1) participation in a wide range of community activities including but not necessarily limited to civic, cultural, social, and recreational activities, and (2) access to timely services that support continuity of community living (i.e., community living without interruption due to hospitalization or institutionalization) (National Council on Disability, 2006; U.S. Department of Health & Human Services, 2010b).

Through this priority, NIDRR seeks to place particular emphasis on research on the services and supports that will enable individuals with disabilities to successfully transition from institutional settings into the community, where they will have increased options for community participation and can engage in activities of their choice in their home environments. Interventions, policies, or programs that address consumers' needs for a coordinated service delivery system will be especially useful for those at greatest risk of institutionalization (National Council on Disability, 2006). Research partnerships with consumer-operated organizations, such as centers for independent living, may facilitate new findings that can be used to work with those in transition from nursing homes or institutional settings into the community.

References

D'Souza, J, James, J, Szafar K, & Fries, B. (2009). Hard times: The effects of financial strain on home care services use and participant outcomes in Michigan. Gerontologist. 49: 154-165.

Jaeger, P, & Xie, B. (2009). Developing online community accessibility guidelines for persons with disabilities and older adults. Journal of Disability Policy Studies. 20(1): 55-63.

Kessler Foundation & National Organization on Disability (2010). The ADA, 20 Years Later: The Kessler Foundation/NOD 2010 Survey of Americans with Disabilities. See: http://www.2010disabilitysurveys.org/pdfs/surveyresults.pdf.

LaPlante, M. & Kaye, H. (2010). Demographics and trends in wheeled mobility equipment use and accessibility in the community. Assistive Technology. 22(1): 3-17.

Magasi, S, & Post, M. (2010). A comparative review of contemporary participation measures' psychometric properties and content coverage. Archives of Physical Medicine and Rehabilitation. 91(9, Supplement 1): S17-S28.

Mojtahedi, M, Boblick, P, Rimmer, J, Rowland, J, Jones, R, & Braunschweig, C. (2008). Environmental barriers to and availability of healthy foods for people with mobility disabilities living in urban and suburban neighborhoods. Archives of Physical Medicine and Rehabilitation. 89(11): 2174-2179.

National Council on Disability (2006). Creating Livable Communities. See: http://www.ncd.gov/newsroom/publications/2006/pdf/livable_communities.pdf.

National Council on Disability (2007). The Impact of the Americans with Disabilities Act: Assessing the Progress Toward Achieving the Goals of the ADA. Washington, DC: National Council on Disability. http://www.ncd.gov/newsroom/publications/2007/ada_impact_07-26-07.htm.

Parish, S, Rose, R, & Andrews, M. (2009). Income Poverty and Material Hardship among US Women with Disabilities. Social Service Review. 83 (1): 33-52.

U.S. Department of Health & Human Services (2010a). Healthy People 2020: An Opportunity to Address Societal Determinants of Health in the United States. See: http://www.healthypeople.gov/hp2020/advisory/SocietalDeterminantsHealth.htm.

U.S. Department of Health & Human Services (2010b). Healthy People 2020: Disability and Health. See: http://healthypeople.odphp.iqsolutions.com/2020/topicsobjectives2020/overview.aspx?topicid=9.

White, G, Simpson, J, Gonda, C, Coble, Z, & Ravesloot, C. (2010) Moving from independence to interdependence: A conceptual model for better understanding community participation of centers for independent living. Journal of Disability Policy Studies. 20: 223-240.

Proposed Priority

The Assistant Secretary for Special Education and Rehabilitative Services proposes a priority for a Rehabilitation Research and Training Center (RRTC) on Interventions to Promote Community Living Among Individuals with Disabilities. The RRTC must conduct rigorous research, training, technical assistance, and dissemination activities that contribute to improved community participation and community living outcomes for individuals with disabilities, including individuals transitioning into the community from nursing homes and other health and community institutions. Under this priority, the RRTC must contribute to the following outcomes:

(a) Increased knowledge about how the barriers to and experience of community living may differ across sociodemographic and geographic groups within the diverse population of individuals with disabilities. The RRTC must contribute to the outcome by conducting research on the extent to which access to community services and supports and community participation outcomes are related to sociodemographic factors (e.g., race, ethnicity, income level, education level), the geographic area in which the individuals reside (e.g., rural or urban areas), or disability characteristics (e.g., disability severity or type of disabling condition).

(b) Improved services and supports that provide opportunities for the population of individuals with disabilities to participate fully in the community, including the services and supports needed to transition from institutions, nursing homes, and other health and community institutions, to the community and to maintain continuity of community living. The RRTC must contribute to this outcome by identifying or developing and then testing policies, programs, or strategies that improve community living services and supports for individuals with disabilities. In this regard, the RRTC must focus its efforts on at least two of the following areas: housing; transportation; recreational, community, and civic activities. In carrying out this requirement, the RRTC must also take into account the findings from paragraph (a) of this priority. The policies, programs, or strategies to be tested under this paragraph (b) may include strategies that integrate or coordinate services from different areas.

(c) Increased incorporation of research findings into practice or policy. The RRTC must contribute to this outcome by coordinating with appropriate NIDRR-funded knowledge translation grantees to advance or add to their work by—

(1) Conducting systematic reviews and developing research syntheses consistent with standards, guidelines, and procedures established by the knowledge translation grantees;

(2) Using knowledge translation strategies identified as promising by the knowledge translation grantees to increase the use of research findings;

(3) Collaborating with centers for independent living and other stakeholder groups to develop, implement, or evaluate strategies to increase utilization of the research findings; and

(4) Conducting training and dissemination activities to facilitate the utilization of the research findings by community-based organizations and other service providers, policymakers, and individuals with disabilities.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits

The benefits of the Disability and Rehabilitation Research Projects and Centers Programs have been well established over the years in that similar projects have been completed successfully. This proposed priority will generate new knowledge through research and development.

Another benefit of this proposed priority is that the establishment of a new RRTC will improve the lives of individuals with disabilities. The new RRTC will generate, disseminate and promote the use of new information that will improve the options for individuals with disabilities to live in and participate in their communities.

Intergovernmental Review: This program is not subject to Executive Order 12372 and the regulations in 34 CFR part 79.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: March 24, 2011.
Alexa Posny,
Assistant Secretary for Special Education and Rehabilitative Services.

[FR Doc. 2011-7357 Filed 3-28-11; 8:45 am]

BILLING CODE 4000-01-P